SURFACE TRANSPORTATION BOARD

[Docket No. FD 36749]

Pioneer Rail & Transload Transport of El Reno, Okla., a Division of Pioneer Storage Company, LLC—Operation Exemption—Line in El Reno, Okla.

Pioneer Rail & Transport of El Reno, Okla., a Division of Pioneer Storage Company, LLC (PRTO), a noncarrier, has filed a verified notice of exemption pursuant to 49 CFR 1150.31 to operate 8,530 feet of existing railroad trackage inside an existing industrial facility in El Reno, Okla. (the Line). The Line contains one milepost, described as 514.5, Oklahoma City, Okla.

According to the verified notice, PRTO currently operates the Line as private track as part of its industrial facility. PRTO states that it plans to convert the Line from private track to a common carrier line of railroad and to provide common carrier switching services for the owner of the facility as well as other customers located or to be located within the facility. PRTO also states that it anticipates entering into an interchange agreement with Union Pacific Railroad Company.

This transaction is related to a concurrently filed verified notice of exemption in James K. Perry and W. Stinson Dean—Continuance in Control Exemption—Pioneer Rail and Transload of El Reno, Oklahoma, a Division of Pioneer Storage Co. LLC, Docket No. FD 36752, in which James K. Perry and W. Stinson Dean, noncarriers, seek to continue in control (by majority ownership) of PRTO, through their ownership of Pioneer Storage Company LLC (PSCO), a noncarrier, upon PRTO becoming a common carrier.

PRTO certifies that its annual projected revenues as a result of the transaction will not exceed those that would qualify it as a Class III carrier and will not exceed $5 million. PRTO also states that the operation agreement does not impose any interchange commitments on PRTO's operations.

The earliest this transaction may be consummated is January 27, 2024, the effective date of the exemption.¹

¹ Although PRTO filed its verified notice of exemption on December 21, 2023, this transaction cannot be consummated until the related continuance in control authority in Docket No. FD 36752 becomes effective.

If the verified notice contains false or misleading information, the exemption is void ab initio. Petitions to revoke the exemption under 49 U.S.C. 10502(d) may be filed at any time. The filing of a petition to revoke will not automatically stay the effectiveness of the exemption. Petitions for stay must be filed no later than January 19, 2024 (at least seven days before the exemption becomes effective).

All pleadings, referring to Docket No. FD 36749, must be filed with the Surface Transportation Board either via e-filing on the Board's website or in writing addressed to 395 E Street SW, Washington, DC 20423-0001. In addition, a copy of each pleading must be served on PRTO's representative, Renner Jantz, Legal Counsel, Pioneer Rail & Transload of El Reno, Okla., a Division of Pioneer Storage Company, LLC, 1200 N Grand Ave., El Reno, OK 73036.

According to PRTO, this action is categorically excluded from environmental review under 49 CFR 1105.6(c) and from historic preservation reporting requirements under 49 CFR 1105.8(b).

Board decisions and notices are available at www.stb.gov.

Decided: January 9, 2024.
By the Board, Mai T. Dinh, Director, Office of Proceedings.
Tammy Lowery,
Clearance Clerk.

[FR Doc. 2024-00572 Filed 1-11-24; 8:45 am]

BILLING CODE 4915-01-P